DEPARTMENT OF TRANSPORTATION

Federal Aviation Administration

14 CFR Part 39

[Docket No. FAA-2013-1072; Directorate Identifier 2012-NM-164-AD; Amendment 39-17828; AD 2014-08-04]

RIN 2120-AA64

Airworthiness Directives; Airbus Airplanes

AGENCY: Federal Aviation Administration (FAA), Department of Transportation (DOT).

ACTION: Final rule.

SUMMARY: We are superseding Airworthiness Directive (AD) 2012-03-04 for certain Airbus Model A310 series airplanes. AD 2012-03-04 required for certain airplanes, modifying the wire routing and installing additional protective sleeves. This new AD continues to require the actions in AD 2012-03-04, and requires additional work for certain airplanes. This AD was prompted by reports of new interferences of newly routed wire bundle 2S. We are issuing this AD to prevent short circuits leading to arcing, and possible fuel tank explosion.

DATES: This AD becomes effective May 27, 2014.

The Director of the Federal Register approved the incorporation by reference of a certain publication listed in this AD as of May 27, 2014.

The Director of the Federal Register approved the incorporation by reference of certain other publications listed in this AD as of May 15, 2012 (77 FR 21397, April 10, 2012).

ADDRESSES: You may examine the AD docket on the Internet at http://www.regulations.gov/#!docketDetail;D=FAA-2013-1072; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2012-03-04, Amendment 39-16945 (77 FR 21397, April 10, 2012). AD 2012-03-04 applied to certain Airbus Model A310 series airplanes. The NPRM published in the Federal Register on January 14, 2014 (79 FR 2391).

The European Aviation Safety Agency (EASA), which is the Technical Agent for the Member States of the European Community, has issued EASA Airworthiness Directive 2012-0188, dated September 19, 2012 (referred to after this as the Mandatory Continuing Airworthiness Information, or “the MCAI”), to correct an unsafe condition for the specified products. The MCAI states:

Within the scope of the Fuel System Safety Program (FSSP), analyses of the wire routing showed that the route 2S of the fuel electrical circuit in the Right Hand (RH) wing ensures insufficient segregation between fuel quantity indication wires and the 115 Volts Alternating Current (VAC) wires of route 2S which could, under certain conditions, lead to a short circuit and subsequent arcing, creating a potential ignition source in the fuel tank vapour space.

This condition, if not detected, could result in a fuel tank explosion and consequent loss of the aeroplane.

To address this potential unsafe condition, DGAC France issued [an] AD *** to require improvements of the design as specified in Airbus Service Bulletin (SB) A310-28-2148 original issue or Revision 01. EASA AD 2007-0230 [(http://ad.easa.europa.eu/blob/easa_ad_2007_0230_Superseded.pdf/AD_2007-0230_1)], which superseded [a] DGAC France AD ***, [which] required those same actions, plus additional work 1, as defined in Airbus SB A310-28-2148 Revision 02.

Since EASA AD 2007-0230 was issued, an operator reported the possibility of chafing between the new routing of the wire bundle 2S in the RH wing pylon area and the wire bundle of No.2 engine generator. The modification of this zone was introduced by Airbus SB A310-28-2148 Revision 02 as additional work 1. Investigation results showed that, to avoid the risk of chafing, the affected wiring harnesses must be installed at a higher position to provide sufficient clearance with the newly routed wire bundle 2S conduit.

Airbus published Revision 03 of SB A310-28-2148 to implement these changes as additional work 2. Subsequently, a new potential interference due to insufficient clearance was found, which prompted Airbus to issue SB A310-28-2148 Revision 04.

Prompted by these findings and actions, EASA issued AD 2011-0005 [(http://ad.easa.europa.eu/blob/easa_ad_2011_0005_Superseded.pdf/AD_2011-0005_1)], retaining the requirements of EASA AD 2007-0230, which was superseded, and required the additional work 2 as specified in Revisions 03 and 04 of Airbus SB A310-28-2148.

Since EASA AD 2011-0005 was issued, several operators of aeroplanes not having been modified in-service through Airbus SB A310-36-2015, or without having Airbus modification 07633 applied in production, reported to have embodied Airbus SB A310-28-2148 at Revision 02 or Revision 03 on the aeroplane. However, the adequate instructions to avoid the new interferences were only introduced in Airbus SB A310-28-2148 Revision 04.

For the reasons described above, this new [EASA] AD retains the requirements of EASA AD 2011-0005, which is superseded, and requires, for certain aeroplanes, the additional work 3 [segregating wire route 2S in the RH pylon area or modifying the wire routings] as defined in Airbus SB A310-28-2148 Revision 06. As SB A310-28-2148 Revision 07 was issued to clarify the additional work 1, 2 and 3 [segregating wire route 2S in the RH pylon area or modifying the wire routings] for aeroplanes that have previously embodied that SB at original issue, Revision 01 or Revision 02, this AD also clarifies the required additional work.

You may examine the MCAI in the AD docket on the Internet at http://www.regulations.gov/#!documentDetail;D=FAA-2013-1072-0002.

Comments

We gave the public the opportunity to participate in developing this AD. We received no comments on the NPRM (79 FR 2391, January 14, 2014) or on the determination of the cost to the public.

Conclusion

We reviewed the available data and determined that air safety and the public interest require adopting this AD as proposed except for minor editorial changes. We have determined that these minor changes:

• Are consistent with the intent that was proposed in the NPRM (79 FR 2391, January 14, 2014) for correcting the unsafe condition; and

• Do not add any additional burden upon the public than was already proposed in the NPRM (79 FR 2391, January 14, 2014).

Costs of Compliance

We estimate that this AD affects 41 airplanes of U.S. registry.

Estimated Costs
Action | Labor cost | Parts cost | Cost per product | Cost on U.S. operators
Modification [retained actions from AD 2012-03-04, Amendment 39-16945 (77 FR 21397, April 10, 2012)] | 62 work-hours × $85 per hour = $5,270 | $2,210 | $7,480 | $306,680
Modification (additional work) [new action] | 32 work-hours × $85 per hour = $2,720 | 1,100 | 3,820 | 156,620

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-1072; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-03-04, Amendment 39-16945 (77 FR 21397, April 10, 2012), and adding the following new AD:

2014-08-04 Airbus: Amendment 39-17828. Docket No. FAA-2013-1072; Directorate Identifier 2012-NM-164-AD.

(a) Effective Date

This airworthiness directive (AD) becomes effective May 27, 2014.

(b) Affected ADs

This AD supersedes AD 2012-03-04, Amendment 39-16945 (77 FR 21397, April 10, 2012).

(c) Applicability

This AD applies to Airbus Model A310-203, -204, -221, -222, -304, -322, -324, and -325 airplanes, certificated in any category, all certified models, all serial numbers.

(d) Subject

Air Transport Association (ATA) of America Code 28, Fuel.

(e) Reason

This AD was prompted by reports of new interferences of newly routed wire bundle 2S. We are issuing this AD to prevent short circuits leading to arcing, and possible fuel tank explosion.

(f) Compliance

Comply with this AD within the compliance times specified, unless already done.

(g) Retained Modification of Routing Wires With Revised Service Information

This paragraph restates the modification required by paragraph (g) of AD 2012-03-04, Amendment 39-16945 (77 FR 21397, April 10, 2012), with revised service information. For all airplanes except airplanes on which Airbus Service Bulletin A310-28-2148, Revision 02, dated March 9, 2007, has been done (Airbus Modifications 12427 and 12435): Within 4,000 flight hours after September 3, 2004 (the effective date of AD 2004-15-16, Amendment 39-13750 (69 FR 45578, July 30, 2004)), modify the routing of wires in the right-hand (RH) wing by installing cable sleeves. Do the modification as per the Accomplishment Instructions of the service information specified in paragraph (g)(1), (g)(2), (g)(3), (g)(4), or (g)(5) of this AD. As of February 20, 2008 (the effective date of AD 2008-01-05, Amendment 39-15330 (73 FR 2795, January 16, 2008)), only the service information specified in paragraphs (g)(2), (g)(3), (g)(4), and (g)(5) of this AD may be used. As of May 15, 2012 (the effective date of AD 2012-03-04), only the service information specified in paragraphs (g)(3), (g)(4), and (g)(5) of this AD may be used. As of the effective date of this AD, only the service bulletin specified in paragraph (g)(5) of this AD may be used.

(1) Airbus Service Bulletin A310-28-2148, Revision 01, dated October 29, 2002.

(2) Airbus Service Bulletin A310-28-2148, Revision 02, dated March 9, 2007.

(3) Airbus Mandatory Service Bulletin A310-28-2148, Revision 05, dated August 3, 2010.

(4) Airbus Mandatory Service Bulletin A310-28-2148, Revision 06, dated August 31, 2011.

(5) Airbus Mandatory Service Bulletin A310-28-2148, Revision 07, dated February 13, 2012.

(h) Retained Modification of Protection Sleeves With Revised Service Information

This paragraph restates the modification required by paragraph (i) of AD 2012-03-04, Amendment 39-16945 (77 FR 21397, April 10, 2012), with revised service information. For airplanes on which the actions specified in Airbus Service Bulletin A310-28-2148, dated January 23, 2002; or Airbus Service Bulletin A310-28-2148, Revision 01, dated October 29, 2002; have been done before February 20, 2008 (the effective date of AD 2008-01-05, Amendment 39-15330 (73 FR 2795, January 16, 2008)), except for airplanes on which Airbus Service Bulletin A310-28-2148, Revision 02, dated March 9, 2007, has been done (Airbus Modifications 12427 and 12435): Within 6,000 flight hours or 30 months after February 20, 2008 (the effective date of AD 2008-01-05), whichever occurs first, perform further modification by installing additional protection sleeves in the outer wing area near the cadensicon sensor and segregating wire route 2S in the RH pylon area, in accordance with the Accomplishment Instructions of service information specified in paragraph (h)(1), (h)(2), (h)(3), or (h)(4) of this AD. As of May 15, 2012 (the effective date of AD 2012-03-04), only the service information specified in paragraphs (h)(2), (h)(3), and (h)(4) of this AD may be used. As of the effective date of this AD, only the service bulletin specified in paragraph (h)(4) of this AD may be used.

(1) Airbus Service Bulletin A310-28-2148, Revision 02, dated March 9, 2007.

(2) Airbus Mandatory Service Bulletin A310-28-2148, Revision 05, dated August 3, 2010.

(3) Airbus Mandatory Service Bulletin A310-28-2148, Revision 06, dated August 31, 2011.

(4) Airbus Mandatory Service Bulletin A310-28-2148, Revision 07, dated February 13, 2012.

(i) Retained New Modification/Installation of Wire Routings for Certain Airplanes With Revised Service Information

This paragraph restates the new modification/installation required by paragraph (j) of AD 2012-03-04, Amendment 39-16945 (77 FR 21397, April 10, 2012), with revised service information. For airplanes on which the actions specified in Airbus Service Bulletin A310-28-2148, Revision 02, dated March 9, 2007, have been accomplished, and do not have production modification 07633; and on which Airbus Service Bulletin A310-36-2015 has not been done: Within 6,000 flight hours or 30 months after May 15, 2012 (the effective date of AD 2012-03-04), whichever occurs first, modify the wire routings, in accordance with the Accomplishment Instructions of the service information specified in paragraph (i)(1), (i)(2), or (i)(3) of this AD. As of the effective date of this AD, only the service bulletin specified in paragraph (i)(3) of this AD may be used.

(1) Airbus Mandatory Service Bulletin A310-28-2148, Revision 05, dated August 3, 2010.

(2) Airbus Mandatory Service Bulletin A310-28-2148, Revision 06, dated August 31, 2011.

(3) Airbus Mandatory Service Bulletin A310-28-2148, Revision 07, dated February 13, 2012.

(j) Retained New Modification/Installation of Bracket for Certain Other Airplanes With Revised Service Information

This paragraph restates the new modification/installation required by paragraph (k) of AD 2012-03-04, Amendment 39-16945 (77 FR 21397, April 10, 2012), with revised service information. For airplanes on which the actions specified in Airbus Service Bulletin A310-28-2148, Revision 02, dated March 9, 2007, have been accomplished, and have production modification 07633; or on which Airbus Service Bulletin A310-36-2015 has been done: Within 1,000 flight hours after May 15, 2012 (the effective date of AD 2012-03-04), install a modified bracket, in accordance with paragraph 3.B.(7), “Additional Work 2,” of the Accomplishment Instructions of the service information specified in paragraph (j)(1), (j)(2), or (j)(3) of this AD. As of the effective date of this AD, only the service bulletin specified in paragraph (j)(3) of this AD may be used.

(1) Airbus Mandatory Service Bulletin A310-28-2148, Revision 05, dated August 3, 2010.

(2) Airbus Mandatory Service Bulletin A310-28-2148, Revision 06, dated August 31, 2011.

(3) Airbus Mandatory Service Bulletin A310-28-2148, Revision 07, dated February 13, 2012.

(k) Retained Modification/Installation Provision for Certain Airplanes

This paragraph restates the modification/installation provision specified in paragraph (l) of AD 2012-03-04, Amendment 39-16945 (77 FR 21397, April 10, 2012). For airplanes on which the actions specified in Airbus Service Bulletin A310-28-2148, Revision 03, dated June 2, 2009, have been accomplished; and have modification 07633 done in production; or on which the actions specified in Airbus Service Bulletin A310-36-2015 have been done; no further action is required by paragraphs (g) through (j) of this AD.

(l) Retained Credit for Previous Actions

(1) This paragraph restates the credit for previous actions required by paragraph (h) of AD 2012-03-04, Amendment 39-16945 (77 FR 21397, April 10, 2012). This paragraph provides credit for the modification of the routing of wires required by paragraph (g) of AD 2012-03-04, if the modification was performed before September 3, 2004 (the effective date of AD 2004-15-16, Amendment 39-13750 (69 FR 45578, July 30, 2004)), using Airbus Service Bulletin A310-28-2148, dated January 23, 2002.

(2) This paragraph restates the credit for previous actions required by paragraph (m) of AD 2012-03-04, Amendment 39-16945 (77 FR 21397, April 10, 2012). This paragraph provides credit for modifications required by paragraphs (g), (i), (j), and (k) of AD 2012-03-04, if the modifications were performed before May 15, 2012 (the effective date of AD 2012-03-04), using Airbus Mandatory Service Bulletin A310-28-2148, Revision 04, dated April 14, 2010.

(m) New Requirement of This AD: Additional Work 2 and 3

For airplanes on which the actions specified in Airbus Service Bulletin A310-28-2148, Revision 02, dated March 9, 2007, have been accomplished, and on which the actions specified in Airbus Service Bulletin A310-36-2015 have not been done; or have Airbus Modification 07633 done in production: Within 1,000 flight hours or 12 months after the effective date of this AD, whichever occurs first, do the modification, in accordance with paragraphs “Additional Work 2” and “Additional Work 3” of the Accomplishment Instructions of Airbus Service Bulletin A310-28-2148, Revision 07, dated February 13, 2012.

(n) New Requirement of This AD: Additional Work 3

For airplanes on which the actions specified in Airbus Service Bulletin A310-28-2148, Revision 03, dated June 2, 2009, have been accomplished, and do not have production modification 07633 or Airbus Service Bulletin A310-36-2015 has not been done: Within 1,000 flight hours or 12 months after the effective date of this AD, whichever occurs first, do the modification, in accordance with paragraph “Additional Work 3” of the Accomplishment Instructions of Airbus Service Bulletin A310-28-2148, Revision 07, dated February 13, 2012.

(o) New Requirement of This AD: Additional Work 1 and 2

For airplanes on which the actions specified in Airbus Service Bulletin A310-36-2015 have not been accomplished and production modification 07633 has not been done, and that have done the actions specified in paragraphs (o)(1) and (o)(2) of this AD: Within 6,000 flight hours or 30 months after the effective date of this AD, whichever occurs first, do the modification, in accordance with paragraphs “Additional Work 1” and “Additional Work 2” of the Accomplishment Instructions of Airbus Service Bulletin A310-28-2148, Revision 07, dated February 13, 2012.

(1) Modification in accordance with the Accomplishment Instructions of Airbus Service Bulletin A310-28-2148, dated January 23, 2002; or Airbus Service Bulletin A310-28-2148, Revision 01, dated October 29, 2002.

(2) Further modification by “Additional Work 3” of the Accomplishment Instructions of Airbus Service Bulletin A310-28-2148, Revision 06, dated August 31, 2011.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval, as applicable). You are required to ensure the product is airworthy before it is returned to service.

(q) Related Information

(1) Refer to Mandatory Continuing Airworthiness Information (MCAI) European Aviation Safety Agency Airworthiness Directive 2012-0188, dated September 19, 2012, for related information. You may examine the MCAI in the AD docket on the Internet at http://www.regulations.gov/#!documentDetail;D=FAA-2013-1072-0002.

(2) Service information identified in this AD that is not incorporated by reference in this AD may be obtained at the addresses specified in paragraphs (r)(5) and (r)(6) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 27, 2014.

(i) Airbus Service Bulletin A310-28-2148, Revision 07, dated February 13, 2012.

(ii) Reserved.

(4) The following service information was approved for IBR on May 15, 2012, (77 FR 21397, April 10, 2012).

(i) Airbus Mandatory Service Bulletin A310-28-2148, Revision 05, dated August 3, 2010.

(ii) Airbus Mandatory Service Bulletin A310-28-2148, Revision 06, dated August 31, 2011.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on April 4, 2014.
Jeffrey E. Duven,
Manager, Transport Airplane Directorate, Aircraft Certification Service.

[FR Doc. 2014-08597 Filed 4-21-14; 8:45 am]

BILLING CODE 4910-13-P